DEPARTMENT OF DEFENSE

GENERAL SERVICES ADMINISTRATION

NATIONAL AERONAUTICS AND SPACE ADMINISTRATION

48 CFR Parts 22, 25, and 52

[FAC 2005-13; FAR Case 2005-030; Item V;Docket 2006-0020, Sequence 15]

RIN 9000-AK40

Federal Acquisition Regulation; FAR Case 2005-030, Trade Agreements—Thresholds

AGENCIES: Department of Defense (DoD), General Services Administration (GSA), and National Aeronautics and Space Administration (NASA).

ACTION: Final rule.

SUMMARY: The Civilian Agency Acquisition Council and the Defense Acquisition Regulations Council (Councils) have adopted as final, without change, an interim rule amending the Federal Acquisition Regulation (FAR) to implement the increased thresholds for the World Trade Organization Government Procurement Agreement and Free Trade Agreements.

DATES: Effective Date: September 28, 2006.

FOR FURTHER INFORMATION CONTACT: For clarification of content, contact Ms. Jeritta Parnell, Procurement Analyst, at (202) 501-4082. Please cite FAC 2005-13, FAR case 2005-030. For information pertaining to status or publication schedules, contact the FAR Secretariat at (202) 501-4755.

SUPPLEMENTARY INFORMATION:

A. Background

The Councils published an interim rule in the Federal Register at 71 FR 864, January 5, 2006, to implement the increased thresholds for the World Trade Organization Government Procurement Agreement and Free Trade Agreements. Every two years, the trade agreements thresholds are escalated according to a pre-determined formula set forth in the agreements. The United States Trade Representative published the new thresholds in the Federal Register at 70 FR 73510 to 73511, December 12, 2005. No comments were received by the close of the public comment period on March 6, 2006, therefore, the Councils agreed to convert the interim rule to a final rule.

This is not a significant regulatory action and, therefore, was not subject to review under Section 6(b) of Executive Order 12866, Regulatory Planning and Review, dated September 30, 1993. This rule is not a major rule under 5 U.S.C. 804.

B. Regulatory Flexibility Act

The Department of Defense, the General Services Administration, and the National Aeronautics and Space Administration certify that this final rule will not have a significant economic impact on a substantial number of small entities within the meaning of the Regulatory Flexibility Act, 5 U.S.C. 601, et seq., because the threshold changes are in line with inflation and only maintain the status quo.

C. Paperwork Reduction Act

The Paperwork Reduction Act does apply, because the final rule affects the certification and information collection requirements in the provisions at FAR 52.212-3, 52.225-4, 52.225-6, and 52.225-11 currently approved under OMB clearances 9000-0136, 9000-0130, 9000-0025, and 9000-0141 respectively. There is, however, no change to these clearances because the threshold changes are due to inflation and only maintain the status quo. As a result, these FAR changes do not impose additional information collection requirements.

List of Subjects in 48 CFR Parts 22, 25, and 52

Government procurement.

Dated: September 19, 2006
Ralph De Stefano,
Director,Contract Policy Division.

Interim Rule Adopted as Final Without Change

Accordingly, the interim rule amending 48 CFR parts 22, 25 and 52, which was published at 71 FR 864, January 5, 2006, is adopted as a final rule without change.

[FR Doc. 06-8207 Filed 9-27-06; 8:45 am]

BILLING CODE 6820-EP-S